ENVIRONMENTAL PROTECTION AGENCY

40 CFR Part 52

[NC-84-9936(b), NC-88-9937(b); FRL-6520-3]

Approval and Promulgation of Air Quality Implementation Plans; North Carolina; Miscellaneous Revisions to the Forsyth County Local Implementation Plan

AGENCY: Environmental Protection Agency (EPA).

ACTION: Proposed rule.

SUMMARY: On January 17, 1997, and November 6, 1998, on behalf of the Forsyth County Environmental Affairs Department the North Carolina Division of Air Quality submitted miscellaneous revisions to the Forsyth County Local Implementation Plan (LIP). These revisions include but are not limited to the adoption of Exclusionary Rules and the amending of multiple Volatile Organic Compounds (VOC) rules. Forsyth County is submitting these revisions to adopt federally approved regulations, previously adopted into the North Carolina State Implementation Plan, into the LIP. In the final rules section of this Federal Register, the EPA is approving the revision as a direct final rule without prior proposal because the EPA views this as a noncontroversial revision and anticipates no adverse comments. A detailed rationale for the approval is set forth in the direct final rule. If no adverse comments are received in response to that direct final rule no further activity is contemplated in relation to this proposed rule. If EPA receives adverse comments, the direct final rule will be withdrawn and all public comments will be addressed in a subsequent final rule based on this proposed rule. The EPA will not institute a second comment period on this document. Any parties interested in commenting should do so at this time.

DATES: To be considered, comments must be received by March 20, 2000.

ADDRESSES: Written comments on this action should be addressed to Randy Terry at the Environmental Protection Agency, Region 4 Air Planning Branch, 61 Forsyth Street, SW, Atlanta, Georgia 30303.

Copies of documents relative to this action are available for public inspection during normal business hours at the following locations. The interested persons wanting to examine these documents should make an appointment with the appropriate office at least 24 hours before the visiting day and reference files NC84-9936 and NC88-9937. The Region 4 office may have additional background documents not available at the other locations.

Air and Radiation Docket and Information Center (Air Docket 6102), U.S. Environmental Protection Agency, 401 M Street, SW, Washington, DC 20460.

Environmental Protection Agency, Region 4 Air Planning Branch, 61 Forsyth Street, SW, Atlanta, Georgia 30303.

North Carolina Department of Environment and Natural Resources, 2728 Capitol Boulevard, Raleigh, North Carolina 27604;

Forsyth County Environmental Affairs Department, 537 North Spruce Street, Winston-Salem, NC 27101-1362.

Office of the Federal Register, 800 North Capitol Street, NW, Suite 700, Washington, D.C.

FOR FURTHER INFORMATION CONTACT: Randy Terry, Regulatory Planning Section, Air Planning Branch, Air, Pesticides & Toxics Management Division, Region 4 Environmental Protection Agency, 61 Forsyth Street SW, Atlanta, Georgia 30303. The telephone number is (404) 562-9032.

SUPPLEMENTARY INFORMATION: For additional information see the direct final rule which is published in the rules section of this Federal Register.

Dated: December 3, 1999.
A. Stanley Meiburg,
Acting Regional Administrator, Region 4.

[FR Doc. 00-3360 Filed 2-16-00; 8:45 am]

BILLING CODE 6560-50-P